DEPARTMENT OF TRANSPORTATION

Federal Aviation Administration

14 CFR Part 39

[Docket No. FAA-2005-20481; Directorate Identifier 2004-NM-183-AD]

RIN 2120-AA64

Airworthiness Directives; Bombardier Model DHC-8-102, -103, -106, -201, -202, -301, -311, and -315 Airplanes

AGENCY: Federal Aviation Administration (FAA), Department of Transportation (DOT).

ACTION: Notice of proposed rulemaking (NPRM).

SUMMARY: The FAA proposes to adopt a new airworthiness directive (AD) for certain Bombardier Model DHC-8-102, -103, -106, -201, -202, -301, -311, and -315 airplanes. This proposed AD would require operators to install torque tube catchers on the control columns of the flight controls. This proposed AD is prompted by the discovery that a single malfunction of the torque tube could result in both flight control columns being supported by only one self-aligning bearing. We are proposing this AD to prevent the torque tube from fouling against the underfloor control cables, which could result in reduced controllability of the airplane.

DATES: We must receive comments on this proposed AD by April 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Bombardier Regional Aircraft Division, 123 Garratt Boulevard, Downsview, Ontario M3K 1Y5, Canada.

You can examine the contents of this AD docket on the Internet at http://dms.dot.gov, or in person at the Docket Management Facility, U.S. Department of Transportation, 400 Seventh Street SW., room PL-401, on the plaza level of the Nassif Building, Washington, DC. This docket number is FAA-2005-20481; the directorate identifier for this docket is 2004-NM-183-AD.

FOR FURTHER INFORMATION CONTACT: Ezra Sasson, Aerospace Engineer, Airframe and Propulsion Branch, ANE-171, FAA, New York Aircraft Certification Office, 1600 Stewart Avenue, suite 410, Westbury, New York 11590; telephone (516) 228-7320; fax (516) 794-5531.

SUPPLEMENTARY INFORMATION:

Comments Invited

We invite you to submit any relevant written data, views, or arguments regarding this proposed AD. Send your comments to an address listed under ADDRESSES. Include “Docket No. FAA-2005-20481; Directorate Identifier 2004-NM-183-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model DHC-8-102, -103, -106, -201, -202, -301, -311, and -315 airplanes. TCCA advises that a single shear failure in the torque tube of the control column, inboard of the self-aligning bearings on the affected airplanes, could result in the pilot's and co-pilot's control column being supported by only one self-aligning bearing. This condition, if not corrected, could cause the torque tube to foul against the underfloor control cables and result in reduced controllability of the airplane.

Relevant Service Information

Bombardier has issued Service Bulletin S.B.8-27-90, dated October 28, 2003, which describes procedures for installing torque tube catchers on the control columns of the flight controls. Accomplishing the actions specified in the service information is intended to adequately address the unsafe condition. TCCA mandated the service information and issued airworthiness directive CF-2004-08, dated April 20, 2004, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States. Therefore, we are proposing this AD, which would require operators to install torque tube catchers on the control columns of the flight controls. The proposed AD would require you to use the Bombardier service information described previously to perform these actions, except as discussed under “Difference Between the Proposed AD and Canadian AD.”

Difference Between the Proposed AD and Canadian Airworthiness Directive

While the Canadian airworthiness directive applies to certain Model DHC-8-102, -103, -106, -201, -202, -301, -311, -314, and -315 series airplanes, this AD applies only to certain Model DHC-8-102, -103, -106, -201, -202, -301, -311, and -315 series airplanes. Model DHC-8-314 series airplanes are not type certificated for operation in the United States.

Costs of Compliance

This proposed AD would affect about 160 airplanes of U.S. registry. The proposed actions would take about 9 work hours per airplane, at an average labor rate of $65 per work hour. Required parts would cost about $490 per airplane. Based on these figures, the estimated cost of the proposed AD for U.S. operators is $172,000, or $1,075 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD will not have federalism implications under Executive Order 13132. This proposed AD will not have a substantial direct effect on the States, on the relationship between the national government and the States, or on the distribution of power and responsibilities among the various levels of government.

For the reasons discussed above, I certify that this proposed AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly de Havilland, Inc.): Docket No. FAA-2005-20481; Directorate Identifier 2004-NM-183-AD.

Comments Due Date

(a) The Federal Aviation Administration must receive comments on this AD action by April 7, 2005.

Affected ADs

(b) None.

Applicability

(c) This AD applies to Bombardier Model DHC-8 102, -103, -106, -201, -202, -301, -311, and -315 airplanes, serial numbers 003 through 584 inclusive, certificated in any category.

Unsafe Condition

(d) This AD is prompted by the discovery that a single malfunction of the torque tube could result in both flight control columns being supported by only one self-aligning bearing. We are issuing this AD to prevent the torque tube from fouling against the underfloor control cables, which could result in reduced controllability of the airplane.

Compliance

(e) You are responsible for having the actions required by this AD performed within the compliance times specified, unless the actions have already been done.

Installation

(f) Within 5,000 flight hours after the effective date of this AD, install control column torque tube catchers on the control columns of the flight controls by incorporating Modsum 8Q101338 in accordance with the Accomplishment Instructions of Bombardier Service Bulletin S.B.8-27-90, dated October 28, 2003.

Alternative Methods of Compliance

(g) The Manager, New York Aircraft Certification Office, has the authority to approve alternative methods of compliance for this AD if requested using the procedures found in 14 CFR 39.19.

Related Information

(h) Canadian airworthiness directive CF-2004-08, dated April 20, 2004, also addresses the subject of this AD.

Issued in Renton, Washington, on February 24, 2005.
Ali Bahrami,
Manager, Transport Airplane Directorate, Aircraft Certification Service.

[FR Doc. 05-4407 Filed 3-7-05; 8:45 am]

BILLING CODE 4910-13-P